DEPARTMENT OF DEFENSE

GENERAL SERVICES ADMINISTRATION

NATIONAL AERONAUTICS AND SPACE ADMINISTRATION

48 CFR Chapter 1

[Docket No. FAR 2014-0051, Sequence No. 6]

Federal Acquisition Regulation; Federal Acquisition Circular 2005-78; Introduction

AGENCIES: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2005-78. A companion document, the Small Entity Compliance Guide (SECG), follows this FAC. The FAC, including the SECG, is available via the Internet at http://www.regulations.gov.

DATES: For effective dates and comment dates see separate documents, which follow.

FOR FURTHER INFORMATION CONTACT: The analyst whose name appears in the table below in relation to the FAR case. Please cite FAC 2005-78 and the specific FAR case number. For information pertaining to status or publication schedules, contact the Regulatory Secretariat at 202-501-4755.

Rules Listed in FAC 2005-78
Item | Subject | FAR case | Analyst
I | Incorporating Section K in Contracts | 2014-001 | Glover.
II | Streamlining Claims Processing | 2014-011 | Loeb.
III | Year Format | 2014-006 | Loeb.
IV | Higher-Level Contract Quality Requirements | 2012-032 | Loeb.
V | Technical Amendments

SUPPLEMENTARY INFORMATION: Summaries for each FAR rule follow. For the actual revisions and/or amendments made by these rules, refer to the specific item numbers and subjects set forth in the documents following these item summaries. FAC 2005-78 amends the FAR as specified below:

Item I—Incorporating Section K in Contracts (FAR Case 2014-001)

This final rule revises the language at FAR subpart 4.12, Representations and Certifications, and adds a new clause at FAR 52.204-19 to standardize the incorporation by reference of representations and certifications in contracts regardless of which contract award form is used. FAR clause 52.212-4 has a new paragraph (v) to cover this issue for commercial items.

Peer reviews and procurement management reviews have found that Section K-Representations and Certifications are inconsistently or not incorporated in contract awards.

This final rule does not change or impact the existing representations and certifications submitted by small entities; this final rule should have no impact on small entities.

Item II—Streamlining Claims Processing (FAR Case 2014-011)

This final rule implements the Streamlining Claims Processing for Federal Contractor Employees Act, Pub. L. 113-50, which transferred certain authority for construction wage under-payments from the Government Accountability Office to the Department of Labor. There is no effect on small businesses.

Item III—Year Format (FAR Case 2014-006)

This final rule amends the FAR to delete obsolete regulations relating to the year 2000 compliance. There is no impact on small businesses.

Item IV—Higher-Level Contract Quality Requirements (FAR Case 2012-032)

This final rule amends FAR parts 44 and 46 to (1) provide that agencies should establish procedures for determining when higher-level quality standards are to be included in a contract, (2) provide that higher-level quality standards should be given special attention during Contractor Purchasing System Reviews, and (3) adds an example of higher-level quality standards as it relates to counterfeit electronic parts. The contracting officer, in accordance with agency procedures, will choose the higher-level quality standards that will apply. These standards will be used to help minimize and mitigate counterfeit items or suspect counterfeit items in Government contracting. This rule impacts large and small businesses who provide critical items directly to the Government or to Government prime contractors.

Item V—Technical Amendments

Editorial changes are made at FAR 1.106, 16.103, 22.1006, 31.109, 52.204-8, and 53.219.

Dated: November 17, 2014.
William Clark,
Acting Director, Office of Government-Wide Acquisition Policy, Office of Acquisition Policy, Office of Government-Wide Policy.

Federal Acquisition Circular (FAC) 2005-78 is issued under the authority of the Secretary of Defense, the Administrator of General Services, and the Administrator for the National Aeronautics and Space Administration.

Unless otherwise specified, all Federal Acquisition Regulation (FAR) and other directive material contained in FAC 2005-78 is effective November 25, 2014 except for items I, II, III and IV, which are effective December 26, 2014.

Dated: November 17, 2014.
Richard Ginman,
Director, Defense Procurement and Acquisition Policy.
Dated: November 17, 2014.
Jeffrey A. Koses,
Senior Procurement Executive/Deputy CAO, Office of Acquisition Policy, U.S. General Services Administration.
Dated: November 18, 2014.
Ronald A. Poussard,
Director, Contract and Grant Policy Branch NASA, Office of Procurement.

[FR Doc. 2014-27656 Filed 11-24-14; 8:45 am]

BILLING CODE 6820-EP-P